DEPARTMENT OF TRANSPORTATION

Pipeline and Hazardous Materials Safety Administration

49 CFR Parts 171, 172, 173, 175, 176, 178, and 180

[Docket No. PHMSA-2021-0092 (HM-215Q)]

RIN 2137-AF57

Hazardous Materials: Harmonization with International Standards

Correction

In rule document 2024-06956 beginning on page 25434 in the issue of Wednesday, April 10, 2024, make the following correction:

§ 172.101 [Corrected]

On pages 25473 through 25475, in § 172.101, the Hazardous Material Table should appear as follows:

§ 172.101 Hazardous Materials Table [Corrected]

(1): Symbols | (2): Hazardous materials descriptions and proper shipping names | (3): Hazard class or division | (4): Identification Numbers | (5): PG | (6): Label Codes | (7): Special Provisions (§ 172.102) (7) | (8): Packaging (§ 173.***): Exceptions (8A) | (8): Packaging (§ 173.***): Non-bulk (8B) | (8): Packaging (§ 173.***): Bulk (8C) | (9): Quantity limitations (see §§ 173.27 and 175.75): Passenger aircraft/rail (9A) | (9): Quantity limitations (see §§ 173.27 and 175.75): Cargo air- craft only (9B) | (10): Vessel stowage: Location (10A) | (10): Vessel stowage: Other (10B)
| [REMOVE]
* * * * * * *
G | Desensitized explosives, solid, n.o.s. | 4.1 | UN3380 | I | 4.1 | 164, 197 | None | 211 | None | Forbidden | Forbidden | D | 28, 36
* * * * * * *
| Ethyl bromide | 6.1 | UN1891 | II | 6.1 | IB2, IP8, T7, TP2, TP13 | 153 | 202 | 243 | 5 L | 60 L | B | 40, 85
* * * * * * *
| Extracts, aromatic, liquid | 3 | UN1169 | II | 3 | 149, IB2, T4, TP1, TP8 | 150 | 202 | 242 | 5 L | 60 L | B |
| Extracts, aromatic, liquid | 3 | UN1169 | III | 3 | B1, IB3, T2, TP1 | 150 | 203 | 242 | 60 L | 220 L | A |
| Extracts, flavoring, liquid | 3 | UN1197 | II | 3 | 149, IB2, T4, TP1, TP8 | 150 | 202 | 242 | 5 L | 60 L | B |
| Extracts, flavoring, liquid | 3 | UN1197 | III | 3 | B1, IB3, T2, TP1 | 150 | 203 | 242 | 60 L | 220 L | A |
* * * * * * *
| Hypochlorite solutions | 8 | UN1791 | II | 8 | 148, A7, B2, B15, IB2, IP5, N34, T7, TP2, TP24 | 154 | 202 | 242 | 1 L | 30 L | B | 26, 53, 58
* * * * * * *
| [ADD]
* * * * * * *
G | Desensitized explosive, solid, n.o.s. | 4.1 | UN3380 | I | 4.1 | 164, 197 | None | 211 | None | Forbidden | Forbidden | D | 28, 36
* * * * * * *
| Cobalt dihydroxide powder, containing not less than 10% respirable particles | 6.1 | UN3550 | I | 6.1 | IP22, TP33 | None | 211 | 242 | 5 kg | 50 kg | A |
* * * * * * *
| Ethyl bromide | 3 | UN1891 | II | 3, 6.1 | IB2, IP8, T7, TP2, TP13 | 150 | 202 | 243 | 1 L | 60 L | B | 40, 85
* * * * * * *
| Extracts, liquid, for flavor or aroma | 3 | UN1197 | II | 3 | 149, IB2, T4, TP1, TP8 | 150 | 202 | 242 | 5 L | 60 L | B |
| Extracts, liquid, for flavor or aroma | 3 | UN1197 | III | 3 | B1, IB3, T2, TP1 | 150 | 203 | 242 | 60 L | 220 L | A |
* * * * * * *
| Hypochlorite solutions | 8 | UN1791 | II | 8 | 148, A7, B2, B15, IB2, IP5, N34, T7, TP2, TP24 | 154 | 202 | 242 | 1 L | 30 L | B | 26
* * * * * * *
| [REVISE] |  |  |  |  |  |  |  |  |  |  |  |
* * * * * * *
G | Articles containing miscellaneous dangerous goods, n.o.s. | 9 | UN3548 |  |  | 391, A224 | None | 232 | 232 | Forbidden | Forbidden | A |
| Articles containing non-flammable, non-toxic gas, n.o.s. | 2.2 | UN3538 |  | 2.2 | 391,396, A225 | None | 232 | 232 | Forbidden | Forbidden | A |
* * * * * * *
| Batteries, wet, filled with acid, electric storage | 8 | UN2794 |  | 8 | A51 | 159 | 159 | 159 | 30 kg | 400 kg | A | 53, 58, 146
| Batteries, wet, filled with alkali, electric storage | 8 | UN2795 |  | 8 | A51 | 159 | 159 | 159 | 30 kg | 400 kg | A | 52, 146
* * * * * * *
| Butylene see also Petroleum gases, liquefied | 2.1 | UN1012 |  | 2.1 | 19, 398, T50 | 306 | 304 | 314, 315 | Forbidden | 150 kg | E | 40
* * * * * * *
| Batteries, containing sodium | 4.3 | UN3292 |  | 4.3 |  | 189 | 189 | 189 | Forbidden | 400 kg | A | 13, 148
* * * * * * *
G | Corrosive liquids, toxic, n.o.s. | 8 | UN2922 | I | 8, 6.1 | A4, A7, B10, T14, TP2, TP13, TP27 | None | 201 | 243 | 0.5 L | 2.5 L | B | 40
G | Corrosive solids, toxic, n.o.s. | 8 | UN2923 | I | 8, 6.1 | A5, IB7, T6, TP33 | None | 211 | 242 | I kg | 25 kg | B | 40
* * * * * * *
| Detonators, electronic programmable for blasting | 1.4B | UN0512 |  | 1.4B | 148 | 63(f), 63(g) | 62 | None | Forbidden | 75 kg | 05 | 25
| Nitrocellulose with alcohol with not less than 25 percent alcohol by mass, and with not more than 12.6 percent nitrogen, by dry mass | 4.1 | UN2556 | II | 4.1 | W31 | None | 212 | None | 1 kg | 15 kg | D | 12, 25, 28, 36
| Nitrocellulose, with not more than 12.6 percent nitrogen, by dry mass mixture with or without plasticizer, with or without pigment | 4.1 | UN2557 | II | 4.1 | 44, W31 | None | 212 | None | 1 kg | 15 kg | D | 28, 36
| Nitrocellulose with water with not less than 25 percent water, by mass | 4.1 | UN2555 | II | 4.1 | W31 | None | 212 | None | 15 kg | 50 kg | E | 28, 36
* * * * * * *
G | Pesticides, liquid, flammable, toxic, flash point less than 23 degrees C | 3 | UN3021 | I | 3, 6.1 | B5, T14, TP2, TP13, TP27 | None | 201 | 243 | Forbidden | 30 L | B | 40
|  |  |  | II | 3, 6.1 | IB2, T11, TP2, TP13, TP27 | 150 | 202 | 243 | 1 L | 60 L | B | 40
* * * * * * *
G | Polymerizing substance, liquid, stabilized, n.o.s. | 4.1 | UN3532 | III | 4.1 | 387, IB3, IP19, N92, T7, TP4, TP6 | None | 203 | 241 | 10 L | 25 L | D | 25, 52, 53
G | Polymerizing substance, liquid, temperature controlled, n.o.s. | 4.1 | UN3534 | III | 4.1 | 387, IB3, IP19, N92, T7, TP4, TP6 | None | 203 | 241 | Forbidden | Forbidden | D | 2, 25, 52, 53
G | Polymerizing substance, solid, stabilized, n.o.s. | 4.1 | UN3531 | III | 4.1 | 387, IB7, IP19, N92, T7, TP4, TP6, TP33 | None | 213 | 240 | 10 kg | 25 kg | D | 25, 52, 53
G | Polymerizing substance, solid, temperature controlled, n.o.s. | 4.1 | UN3533 | III | 4.1 | 387, IB7, IP19, N92, T7, TP4, TP6, TP33 | None | 213 | 240 | Forbidden | Forbidden | D | 2, 25, 52, 53
* * * * * * *
G | Water-reactive liquid, corrosive, n.o.s. | 4.3 | UN3129 | I | 4.3, 8 | T14, TP2, TP7, TP13 | None | 201 | 243 | Forbidden | 1 L | D | 13, 148
G |  |  |  | II | 4.3, 8 | IB1, T11, TP2, TP7 | 151 | 202 | 243 | 1 L | 5 L | E | 13, 85, 148
G |  |  |  | III | 4.3, 8 | IB2, T7, TP2, TP7 | 151 | 203 | 242 | 5 L | 60 L | E | 13, 85, 148
* * * * * * *
G | Water-reactive liquid, n.o.s. | 4.3 | UN3148 | I | 4.3 | T13, TP2, TP7, W31 | None | 201 | 244 | Forbidden | 1 L | E | 13, 40, 148
G |  |  |  | II | 4.3 | T13, TP2, TP7, W31 | 151 | 201 | 244 | Forbidden | 1 L | E | 13, 40, 148
G |  |  |  | III | 4.3 | IB2, T7, TP2, TP7, W31 | 151 | 203 | 242 | 5 L | 60 L | E | 13, 40, 148
* * * * * * *

[FR Doc. C1-2024-06956 Filed 5-10-24; 8:45 am]

BILLING CODE 0099-10-C